DEPARTMENT OF ENERGY

Federal Energy Regulatory Commission

[Project No. 12611-005]

Verdant Power, LLC (Verdant); Notice of Application Tendered for Filing With the Commission and Establishing Procedural Schedule for Licensing and Deadline for Submission of Final Amendments

January 13, 2011.

Take notice that the following hydrokinetic pilot project license application has been filed with the Commission and is available for public inspection.

a. Type of Application: Pilot License.

b. Project No.: 12611-005.

c. Date Filed: December 29, 2010.

d. Applicant: Verdant Power, LLC (Verdant).

e. Name of Project: Roosevelt Island Tidal Energy (RITE) Project.

f. Location: The proposed project would be located on the East River in New York City, New York. The project does not affect Federal lands.

g. Filed Pursuant to: Federal Power Act 16 U.S.C. 791(a)-828(c).

h. Applicant Contact: Ronald F. Smith, Verdant Power, LLC, The Octagon, 888 Main Street, New York, NY 10044; telephone (212) 888-8887 (extension 601).

i. FERC Contact: Timothy Konnert, (202) 502-6359 or timothy.konnert@ferc.gov.

j. This application is not ready for environmental analysis at this time.

k. The Project Description: The primary project facilities would include: (1) Three 35-kilowatt (kW), 5-meter-diameter axial flow Kinetic System turbine generator units mounted on a single triframe mount, with a total installed capacity of 105 kW, in Phase 1; (2) nine additional 5-meter-diameter axial flow Kinetic System turbine generator units mounted on three triframe mounts, with a total installed capacity of 420 kW, in Phase 2; (3) eighteen additional 5-meter-diameter axial flow Kinetic System turbine generator units mounted on six triframe mounts, with a total installed capacity of 1,050 kW, in Phase 3; (4) 480-volt underwater cables from each turbine to five shoreline switchgear vaults that would interconnect to a control room and interconnection points; and (5) appurtenant facilities for navigation safety and operation. The project is estimated to have an annual generation of between 1,680 and 2,400 megawatt-hours.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via e-mail of new filings and issuances related to this or other pending projects. For assistance, contact FERC Online Support.

n. Procedural Schedule:

The application will be processed according to the following preliminary Hydro Licensing Schedule. Revisions to the schedule may be made as appropriate.

Milestone | Target date
Filing of requested additional information | January 28, 2011.
Commission issues REA notice | February 2, 2011.
Filing of recommendations, preliminary terms and conditions, and preliminary fishway prescriptions | March 4, 2011.
Commission issues Single EA | May 3, 2011.
Comments on EA | June 2, 2011.

o. Final amendments to the application must be filed with the Commission no later than 30 days from the issuance date of the notice of ready for environmental analysis.

Kimberly D. Bose,
Secretary.

[FR Doc. 2011-1286 Filed 1-21-11; 8:45 am]

BILLING CODE 6717-01-P